NATIONAL FOUNDATION ON THE ARTS AND THE HUMANITIES

Arts Advisory Panel Meeting

AGENCY: National Endowment for the Arts, National Foundation on the Arts and Humanities.

ACTION: Notice of Meeting

SUMMARY: Pursuant to Section 10(a)(2) of the Federal Advisory Committee Act (Pub. L. 92-463), as amended, notice is hereby given that thirteen meetings of the Arts Advisory Panel to the National Council on the Arts will be held at the Nancy Hanks Center, 1100 Pennsylvania Avenue NW., Washington, DC 20506 as follows (ending time is approximate):

Opera (application review): This meeting will be closed.

Dates: November 12, 2013. 10:00 a.m. to 4:00 p.m. Eastern time in Room 716. (Note—this meeting replaces the meeting on October 31, 2013, which has been cancelled.)

Arts Education (application review): This meeting will be closed.

Dates: November 14, 2013 in Room 714. 9:00 a.m. to 5:00 p.m. Eastern time.

Music (application review): This meeting will be virtual and will be closed.

Dates: November 13, 2013. 1:00 p.m. to 3:00 p.m. Eastern time.

Theater and Musical Theater (application review): This meeting will be virtual and will be closed.

Dates: November 14, 2013. 3:00 p.m. to 5:00 p.m. Eastern time.

Theater and Musical Theater (application review): This meeting will be virtual and will be closed.

Dates: November 18, 2013. 3:00 p.m. to 5:00 p.m. Eastern time.

Music (application review): This meeting will be closed.

Dates: November 19, 2013. 9:00 a.m. to 3:00 p.m. Eastern time in room 714.

Music (application review): This meeting will be closed.

Dates: November 20, 2013. 9:00 a.m. to 3:00 p.m. Eastern time in room 714.

Local Arts Agencies (application review): This meeting will be virtual and will be closed.

Dates: November 21, 2013. 3:00 p.m. to 5:00 p.m. Eastern time.

Presenting and Muiltidisciplinary Works (application review): This meeting will be virtual and will be closed.

Dates: November 21, 2013. 3:00 p.m. to 5:00 p.m. Eastern time.

Dance (application review): This meeting will be virtual and will be closed.

Dates: November 22, 2013. 12:30 p.m. to 2:00 p.m. Eastern time.

Dance (application review): This meeting will be virtual and will be closed.

Dates: November 22, 2013. 2:30 p.m. to 4:00 p.m. Eastern time.

Theater and Musical Theater (application review): This meeting will be virtual and will be closed.

Dates: November 25, 2013. 12:00 p.m. to 2:00 p.m. Eastern time.

Theater and Musical Theater (application review): This meeting will be virtual and will be closed.

Dates: November 25, 2013. 2:00 p.m. to 4:00 p.m. Eastern time.

FOR FURTHER INFORMATION CONTACT: Further information with reference to these meetings can be obtained from Ms. Kathy Plowitz-Worden, Office of Guidelines & Panel Operations, National Endowment for the Arts, Washington, DC 20506; plowitzk@arts.gov, or call 202/682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of Title 5, United States Code.

Dated: October 21, 2013.
Kathy Plowitz-Worden,
Panel Coordinator, National Endowment for the Arts.

[FR Doc. 2013-25104 Filed 10-24-13; 8:45 am]

BILLING CODE 7537-01-P